ENVIRONMENTAL PROTECTION AGENCY

[EPA-HQ-OAR-2003-0041; FRL-9949-56-OEI]

Information Collection Request Submitted to OMB for Review and Approval; Comment Request; RadNet (Renewal)

AGENCY: Environmental Protection Agency (EPA).

ACTION: Notice.

SUMMARY: The Environmental Protection Agency has submitted an information collection request (ICR), “RadNet (Renewal)” (EPA ICR No. 0877.13, OMB Control No. 2060-0015) to the Office of Management and Budget (OMB) for review and approval in accordance with the Paperwork Reduction Act (44 U.S.C. 3501 et seq.). This is a proposed extension of the ICR, which is currently approved through August 31, 2016. Public comments were previously requested via the Federal Register (81 FR 39042) on June 15, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 28, 2016.

ADDRESSES: Submit your comments, referencing Docket ID Number EPA-HQ-OAR-2003-0041, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information for which disclosure is restricted by statute.

FOR FURTHER INFORMATION CONTACT: John Griggs, OAR/ORIA/NAREL, 540 South Morris Ave., Montgomery, AL 36115; telephone number: (334) 270-3400; fax number: (334) 270-3454; email address: Griggs.john@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: RadNet is a national network of stations collecting sampling media that include air, precipitation, and drinking water. Samples are sent to EPA's National Analytical Radiation Environmental Lab (NAREL) in Montgomery, Alabama, where they are analyzed for radioactivity. RadNet provides emergency response/homeland security and ambient monitoring information on levels of environmental radiation across the nation. All stations, usually operated by state and local personnel, participate in RadNet voluntarily. Station operators complete information forms that accompany the samples. The forms request information pertaining to sample type, sample location, start and stop date and times for sampling, length of sampling period, and volume represented. Data from RadNet are made available regularly on the Agency Web sites—Envirofacts and the EPA Web site www.epa.gov/radnet.

Form Numbers: 5900-23, 5900-24, 5900-27, 5900-29.

Respondents/affected entities: State and Local Officials.

Respondent's obligation to respond: Voluntary.

Estimated number of respondents: 235 (total).

Frequency of response: Biweekly requested for air filters, each measureable event for precipitation, quarterly for drinking water.

Total estimated burden: 3,726 hours (per year). Burden is defined at 5 CFR 1320.03(b).

Total estimated cost: $139,843 (per year), includes $0 annualized capital or operation & maintenance costs.

Changes in the Estimates: There is a decrease of 3,815 hours in the total estimated respondent burden compared with the ICR currently approved by OMB. This decrease is due to the transfer of the milk program to FDA and the elimination of the request to radiologically screen air-filters prior to shipment to NAREL.

Courtney Kerwin,
Director, Regulatory Support Division.

[FR Doc. 2016-20599 Filed 8-26-16; 8:45 am]

BILLING CODE 6560-50-P